NUCLEAR REGULATORY COMMISSION

[NRC-2012-0102; Docket No. 50-409, License DPR-045]

LaCrosse Boiling Water Reactor, Exemption From Certain Requirements, Vernon County, WI

AGENCY: Nuclear Regulatory Commission.

ACTION: Environmental assessment and finding of no significant impact.

FOR FURTHER INFORMATION CONTACT: John Hickman, Division of Waste Management and Environmental Protection, Office of Federal and State Materials and Environmental Management Programs, U.S. Nuclear Regulatory Commission, Mail Stop T8F5, Washington, DC 20555-0001; telephone: 301-415-3017; email: John.Hickman@nrc.gov.

SUPPLEMENTARY INFORMATION:

I. Introduction

The U.S. Nuclear Regulatory Commission (NRC or the Commission) staff is considering a request dated December 1, 2010, by Dairyland Power Cooperative, (DPC, the licensee) requesting exemptions from certain security requirements in Title 10 of the Code Federal Regulations (10 CFR) 73.55, for the LaCrosse Boiling Water Reactor (LACBWR).

This Environmental Assessment (EA) has been developed in accordance with the requirements of 10 CFR 51.21.

II. Environmental Assessment

Identification of Proposed Action

The proposed action would exempt LACBWR, a 10 CFR Part 50 licensee, from certain 10 CFR Part 73 security requirements because LACBWR is permanently shut-down and defueled. The part of this proposed action involving safeguards plans meets the categorical exclusion provision in 10 CFR 51.22(c)(25)(vi)(F), because it is an exemption from the Commission's regulations and (i) there is no significant hazards consideration; (ii) there is no significant change in the types or significant increase in the amounts of any effluents that may be released offsite; (iii) there is no significant increase in individual or cumulative public or occupational radiation exposure; (iv) there is no significant construction impact; (v) there is no significant increase in the potential for or consequences from radiological accidents; and (vi) the requirements from which an exemption is sought involve safeguard plans (which include physical protection plans). Therefore, this part of the action does not require either an environmental assessment or an environmental impact statement. This environmental assessment was prepared for the part of the proposed action that does not involve safeguards plans (i.e., the exemption from the implementation date required by 10 CFR 73.55(a)(1)).

Need for Proposed Action

The NRC revised 10 CFR 73.55 through the issuance of a final rule on March 27, 2009 (74 FR 13926). Section 73.55 requires that licensees establish and maintain physical protection and security for activities involving special nuclear material (SNM). Section 73.55(a)(1) requires implementation of the 10 CFR 73.55 requirements by March 31, 2010. The revised regulation stated that it was applicable to all Part 50 licensees. The NRC became aware that many Part 50 licensees with facilities in decommissioning status did not recognize the applicability of this regulation to their facilities. By letter dated August 2, 2010, the NRC discussed the applicability of the revised 10 CFR 73.55 to all Part 50 licensees, stating that each licensee needs to evaluate the applicability of the regulation to its facility and either make appropriate changes to its Physical Security Plan (PSP), or request an exemption.

The proposed action is needed because the permanently shut-down and defueled status of LACBWR affects the level of security necessary to protect against radiological sabotage or diversion and the implementation date in 10 CFR 73.55(a)(1) has passed. The shutdown status of LACBWR means that there are no longer interconnected operating systems which require security to prevent offsite releases or protect SNM. Granting the licensee an exemption from the March 31, 2010, implementation date would allow the licensee to continue to follow its existing, NRC-approved PSP.

Environmental Impacts of the Proposed Action

The NRC staff evaluated the environmental impacts of the proposed action and concludes that exempting the facility from the implementation date will not have any adverse environmental impacts. The NRC staff has also determined that the proposed action alleviates the licensee from complying with security requirements that are not necessary for the permanently shut-down and defueled status. In addition, there will be no construction or major renovation of any buildings or structures, no ground disturbing activities, no alteration to land or air quality, or any affect on historic and cultural resources associated with an extension of the compliance deadline. Therefore, the proposed action does not reduce the protection of the stored spent fuel. The proposed action will not significantly increase the probability or consequences of accidents, no changes are being made in the types of any effluents that may be released offsite, and there is no significant increase in occupational or public radiation exposure. Therefore, there are no significant radiological environmental impacts associated with the proposed action.

With regard to potential non-radiological impacts, there will be no construction or renovation of buildings or structures, or any ground disturbing activities associated with an extension of the compliance deadline. In addition the proposed action does not affect non-radiological plant effluents and has no other environmental impact. Finally, there will be no impact on historic sites. Therefore, there are no significant non-radiological environmental impacts associated with the proposed action.

Accordingly, the NRC staff concludes that there are no significant environmental impacts associated with the proposed action.

Environmental Impacts of the Alternatives to the Proposed Action

As an alternative to the proposed action, the NRC staff considered denial of the proposed action (i.e., the “no-action” alternative). Denial of the exemption request would result in no change in current environmental impacts because there will be no construction or major renovation of any buildings or structures, nor any ground disturbing activities associated with an extension of the compliance deadline. Thus the environmental impacts of the proposed action and no-action alternative are similar. Therefore, the no-action alternative is not further considered.

Conclusion

The NRC staff has concluded that the proposed action will not significantly impact the quality of the human environment, and that the proposed action is the preferred alternative.

Agencies and Persons Consulted

In accordance with its stated policy, on August 23, 2011, the NRC staff consulted with the Wisconsin State official of the Radiation Protection Section, Wisconsin Department of Health Services, regarding the environmental impact of the proposed action. The State official had no comments.

The NRC staff has determined that the proposed action is of a procedural nature, and will not affect listed species or critical habitat. Therefore, no further consultation is required under Section 7 of the Endangered Species Act. The NRC staff has also determined that the proposed action is not the type of activity that has the potential to cause effects on historic properties. Therefore, no further consultation is required under Section 106 of the National Historic Preservation Act.

III. Finding of No Significant Impact

The NRC staff has prepared this EA as part of its review of the proposed action. On the basis of this EA, the NRC finds that there are no significant environmental impacts from the proposed action, and that preparation of an environmental impact statement is not warranted. Accordingly, the NRC has determined that a Finding of No Significant Impact is appropriate.

IV. Further Information

For further details with respect to the proposed action, see the licensee's letter dated December 1, 2010, [ADAMS Accession Number ML103400106]. Documents related to this action, including the application and supporting documentation, are available online in the NRC Library at http://www.nrc.gov/reading-rm/adams.html. From this site, you can access the NRC's Agencywide Document Access and Management System (ADAMS), which provides text and image files of NRC's public documents.

If you do not have access to ADAMS, or if there are problems in accessing the documents located in ADAMS, contact the NRC Public Document Room (PDR) Reference staff at 1-800-397-4209, 301-415-4737, or by email to pdr.resource@nrc.gov. These documents may also be viewed electronically on the public computers located at the NRC's PDR, O 1 F21, One White Flint North, 11555 Rockville Pike, Rockville, MD 20852. The PDR reproduction contractor will copy documents for a fee.

Dated at Rockville, Maryland, this 30th day of April 2012.
For the Nuclear Regulatory Commission.
Bruce Watson,
Acting Deputy Director, Decommissioning and Uranium Recovery Licensing Directorate, Division of Waste Management and Environmental Protection, Office of Federal and State Materials and Environmental Management Programs.

[FR Doc. 2012-11038 Filed 5-7-12; 8:45 am]

BILLING CODE 7590-01-P